DEPARTMENT OF COMMERCE

National Oceanic and Atmospheric Administration

[I.D. 111506A]

Endangered and Threatened Species; Recovery Plans

AGENCY: National Marine Fisheries Service (NMFS), National Oceanic and Atmospheric Administration, Commerce.

ACTION: Notice of Availability.

SUMMARY: The National Marine Fisheries Service (NMFS) announces the adoption of its Endangered Species Act (ESA) Recovery Plan (Recovery Plan) for the Puget Sound Chinook Salmon (Oncorhynchus tshawytscha) Evolutionarily Significant Unit (ESU). The Recovery Plan consists of two documents: the Puget Sound Salmon Recovery Plan prepared by the Shared Strategy for Puget Sound (the Shared Strategy Plan), and NMFS' Final Supplement to the Shared Strategy Plan (Supplement). The Final Supplement contains revisions and additions in consideration of public comments on the Shared Strategy Plan and the draft NMFS Supplement.

ADDRESSES: Additional information about the Recovery Plan may be obtained by writing to Elizabeth Babcock, National Marine Fisheries Service, 7600 Sandpoint Way N.E., Seattle, WA 98115, or calling (206) 526-4505.

Persons wishing to read the Recovery Plan can obtain an electronic copy (i.e., CD-ROM) from Carol Joyce by calling (503) 230-5408 or by e-mailing a request to carol.joyce@noaa.gov, with the subject line “CD-ROM Request for Final ESA Recovery Plan for Puget Sound Chinook Salmon.” NMFS' summary of and response to public comments on the Shared Strategy Plan and draft Supplement will be included on the CD-ROM. Electronic copies of these documents are also available on-line on the NMFS website, http://www.nwr.noaa.gov/Salmon-Recovery-Planning/Recovery-Domains/Puget-Sound/Index.cfm, or the Shared Strategy for Puget Sound website, http://www.sharedsalmonstrategy.org

FOR FURTHER INFORMATION CONTACT: Elizabeth Babcock, Puget Sound Salmon Recovery Coordinator at (206) 526-4505, or Elizabeth Gaar, NMFS Salmon Recovery Division at (503) 230-5434.

SUPPLEMENTARY INFORMATION:

Background

Recovery plans describe actions beneficial to the conservation and recovery of species listed under the Endangered Species Act of 1973 (ESA), as amended (16 U.S.C. 1531 et seq.). The ESA requires that recovery plans, to the extent practicable, incorporate (1) Objective, measurable criteria which, when met, would result in a determination that the species is no longer threatened or endangered; (2) site-specific management actions that may be necessary to achieve the plan's goals; and (3) estimates of the time required and costs to implement recovery actions. The ESA requires the development of recovery plans for listed species unless such a plan would not promote the recovery of a particular species.

NMFS' goal is to restore endangered and threatened Pacific salmon ESUs and steelhead distinct population segments (DPSs) to the point that they are again self-sustaining members of their ecosystems and no longer need the protections of the ESA. NMFS believes it is critically important to base its recovery plans on the many state, regional, tribal, local, and private conservation efforts already underway throughout the region. Therefore, the agency supports and participates in locally led collaborative efforts to develop recovery plans, involving local communities, state, tribal, and Federal entities, and other stakeholders. As the lead ESA agency for listed salmon, NMFS is responsible for reviewing these locally produced recovery plans and deciding whether they meet ESA statutory requirements and merit adoption as ESA recovery plans.

On June 30, 2005, the Shared Strategy for Puget Sound (Shared Strategy) presented its locally developed listed species recovery plan to NMFS. The Shared Strategy is a collaborative initiative that began in 1999 after NMFS listed Puget Sound Chinook salmon as threatened. The Shared Strategy includes representatives of tribal, Federal, state, and local governments, business, the agriculture and forestry industries, conservation and environmental groups, and local watershed planning groups. After reviewing the Shared Strategy Plan, NMFS prepared a Draft Supplement, clarifying how the Shared Strategy Plan satisfies ESA recovery plan requirements and addressing additional elements needed to comply with those requirements. The Shared Strategy Plan and Draft Supplement were offered for public comment on December 27, 2005, and a Notice of Availability was published in the Federal Register (70 FR 76445) on the same date.

NMFS received 98 comment letters by mail, fax, or e-mail on the Shared Strategy Plan and draft Supplement. Public hearings were held between February 7 and February 21 in Sequim, Lacey, Seattle, and Anacortes, Washington. NMFS summarized the public comments and oral testimony and prepared responses, now available on the NMFS website at http://www.nwr.noaa.gov/Salmon-Recovery-Planning/Recovery-Domains/Puget-Sound/PS-Chinook-Plan.cfm. NMFS revised its Supplement based on the comments received.

Consistent with adoption of this Final Supplement, NMFS will seek to implement the actions in the Recovery Plan for which it has authority, to work cooperatively on implementation of other actions, and to encourage other Federal agencies to implement Recovery Plan actions for which they have responsibility and authority. NMFS will also encourage the State of Washington to seek similar implementation commitments from state agencies and local governments. NMFS expects the Recovery Plan to help NMFS and other Federal agencies take a more consistent approach to future ESA section 7 consultations under the ESA and other ESA decisions. For example, the Recovery Plan will provide greater biological context for the effects that a proposed action may have on the listed ESU. This context will be enhanced by adding Recovery Plan science to the “best available information” for section 7 consultations, section 10 habitat conservation plans, and other ESA decisions. Such information includes viability criteria for the ESU and its independent populations; better understanding of and information on limiting factors and threats facing the ESU; better information on priority areas for addressing specific limiting factors; and better geographic context for where the ESU can tolerate varying levels of risk.

The Recovery Plan

The Shared Strategy Plan is one of many ongoing salmon recovery planning efforts funded under the Washington State Strategy for Salmon Recovery. The State of Washington designated the Shared Strategy as the Recovery Board for salmon recovery planning for the Puget Sound. The Shared Strategy Plan incorporates many aspects of the work of the Puget Sound Technical Recovery Team (PSTRT) appointed by NMFS. The PSTRT provided independent scientific peer review of the Shared Strategy Plan. The Shared Strategy has included public involvement throughout its recovery planning process, having received extensive comments during the public comment period in early 2006.

ESU Addressed and Planning Area

The Recovery Plan is intended for implementation within the range of the Puget Sound Chinook Salmon ESU, listed as threatened on March 24, 1999 (64 FR 14307), and reaffirmed on June 28, 2005 (70 FR 37160). The Puget Sound Chinook salmon ESU contains 22 independent populations identified by the PSTRT. The most recent status review of Puget Sound Chinook under the Shared Strategy Plan indicates that the long-term productivity trend for naturally spawning populations is declining. In general, abundance of all Puget Sound Chinook salmon populations has declined substantially from historical levels, and many populations are sufficiently small that genetic and demographic risks, are relatively high.

The Plan's Recovery Goals, Objectives and Criteria

The Shared Strategy Plan's overarching goal is to “recover self-sustaining, harvestable salmon runs in a manner that contributes to the overall health of Puget Sound and its watersheds and allows us to enjoy and use this precious resource in concert with our region's economic vitality and prosperity.” The PSTRT provided recommendations for Chinook salmon recovery based on the principles described in a NMFS technical memorandum, Viable Salmonid Populations and the Recovery of Evolutionarily Significant Units (McElhany et al., 2000). The Shared Strategy Plan accepts these principles as the foundation for biological status assessments and recovery goals and adopts the viability criteria recommended by the PSTRT at both the population and ESU levels. It also adopts a complementary set of recovery planning targets developed by state and tribal fisheries co-managers. The PSTRT recommended that for the Puget Sound Chinook salmon ESU to be viable, all of the 22 populations would have to improve from current conditions, but not all would have to achieve a low risk status.

The Shared Strategy Plan relies on the work of 14 individual watershed planning groups to set goals for their Chinook salmon populations. The PSTRT reviewed the watershed plans in 2004 and 2005. The individual watershed goals are summarized in Volume I, Chapter 5 of the Shared Strategy Plan, and detailed in the watershed plans in Volume II. Most of the watershed plans aim toward low-risk status for their populations over time, and all adopted the co-managers' planning targets as their long-term, measurable recovery goals.

In accordance with its responsibilities under ESA section 4(c)(2), NMFS will conduct status reviews of the listed Puget Sound Chinook salmon ESU at least once every 5 years to evaluate its status and determine whether the ESU should be removed from the list or changed in status. Such evaluations will take into account the following:

• The biological recovery criteria (Ruckelshaus et al., 2002) and listing factor (threats) criteria described above.

• Principles presented in the Viable Salmonid Populations (VSP) paper (McElhany et al., 2000).

• Co-managers' recovery planning targets.

• Best available information on population and ESU status and new advances in risk evaluation methodologies.

• Considerations consistent with the VSP paper and the PSTRT's recommendations, including: the number of viable populations; the number and status of other extant populations; the extinction risk of all populations; the distribution of viable populations relative to the range of historical conditions supporting viable populations; linkages and connectivity among viable populations; the diversity of life history and phenotypes expressed; and considerations regarding catastrophic risk.

• Principles laid out in NMFS' Hatchery Listing Policy (70 FR 37204, June 28, 2005).

Causes for Decline and Current Threats

Listing factors are those features that were evaluated under section 4(a)(1) when the initial determination was made to list the species for protection under the ESA. These factors are: (A) The present or threatened destruction, modification, or curtailment of a species' habitat or range; (B) overutilization for commercial, recreational, scientific or educational purposes; (C) disease or predation; (D) the inadequacy of existing regulatory mechanisms; and (E) other natural or man-made factors affecting the species' continued existence. These may or may not still be limiting recovery when in the future NMFS reevaluates the status of the species to determine whether the protections of the ESA are no longer warranted and the species could be “delisted.” In its Final Supplement to the Shared Strategy Plan, NMFS provides specific criteria for each of the relevant listing/delisting factors to help ensure that underlying causes of decline have been addressed and mitigated prior to considering the species for delisting.

Site-Specific Actions

The Recovery Plan recognizes that recovery actions must be implemented at both the regional, or ESU, and watershed, or population, levels, and it proposes both types of site specific actions. Watershed-level actions are detailed in the individual watershed plans contained in Volume II of the Shared Strategy Plan, and regional actions are described in Volume I. The Recovery Plan states that recovery will depend on integrating actions that address habitat (including hydropower effects), harvest, and hatchery operations. An adaptive management program is under development in coordination with NMFS and regional stakeholders involved in implementation of the Recovery Plan.

Time and Cost Estimates

The ESA section 4(f)(1) requires that a recovery plan include “estimates of the time required and the cost to carry out those measures needed to achieve the Plan's goal and to achieve intermediate steps toward that goal” (16 U.S.C. 1533[f][1]). The Shared Strategy Plan estimates that recovery of Puget Sound Chinook salmon will take “several decades,” or 50 to 100 years. Chapter 8 of the Shared Strategy Plan summarizes cost estimates for the measures needed to achieve the plan's goal and to achieve intermediate steps toward that goal. The Shared Strategy Plan (Volume I and the individual watershed chapters in Volume II) provides cost estimates to carry out specific recovery actions for the first 10 years of plan implementation, as well as cost estimates for programs that span multiple watersheds: hatchery improvements, nearshore and marine habitat protection and restoration, and incentive programs for habitat restoration and conservation on farm and small forest lands. The total cost is estimated at an average of $120 million per year for the first 10 years. Implementing this first phase is expected to result in improved conditions for all Puget Sound Chinook populations and to put the ESU on a trajectory toward recovery.

NMFS supports the policy determination to focus on the first 10 years of implementation, with the proviso that before the end of this first implementation period, specific actions and costs to achieve long-term goals will be estimated for subsequent years, to proceed until a determination is made that listing is no longer necessary. NMFS agrees that 10 years is a reasonable period of time during which to implement and evaluate the actions identified in the Recovery Plan. NMFS strongly supports the Shared Strategy Plan's intention to conduct additional economic analyses through the adaptive management process over time and to use these in realigning priorities as appropriate.

Conclusion

NMFS concludes that the Recovery Plan meets the requirements of ESA section 4(f) and thus is adopting it as the Recovery Plan for Puget Sound Chinook Salmon.

Literature Cited

McElhany, P., M.H. Ruckelshaus, M.J. Ford, T.C. Wainwright, and E.P. Bjorkstedt. 2000. Viable salmon populations and the recovery of evolutionarily significant units. U.S. Dept. of Commerce, NOAA Tech. Memo., NMFS-NWFSC-42, 156p.

Ruckelshaus, M.H., K. Currens, R. Furstenberg, W. Graeber, K. Rawson, N.J. Sands, and K.J. Scott. 2002. Planning ranges and preliminary guideline for the delisting and recovery of the Puget Sound Chinook salmon Evolutionarily Significant Unit. Puget Sound Technical Recovery Team.

Authority: 16 U.S.C. 1531 et seq.

Dated: January 10, 2007.
Angela Somma,
Chief, Endangered Species Division, Office of Protected Resources, National Marine Fisheries Service.

[FR Doc. E7-810 Filed 1-18-07; 8:45 am]

BILLING CODE 3510-22-S